DEPARTMENT OF TRANSPORTATION

Federal Aviation Administration

14 CFR Part 39

[Docket No. FAA-2004-19541; Directorate Identifier 2004-NM-129-AD]

RIN 2120-AA64

Airworthiness Directives; McDonnell Douglas Model DC-8 Airplanes

AGENCY: Federal Aviation Administration (FAA), DOT.

ACTION: Notice of proposed rulemaking (NPRM).

SUMMARY: The FAA proposes to adopt a new airworthiness directive (AD) for all McDonnell Douglas Model DC-8 airplanes. This proposed AD would require an inspection of the pushrod assemblies for the left and right elevator control tabs to determine if the pushrod assemblies are made of aluminum or steel, replacing any assembly made of aluminum with an assembly made of steel or modifying existing steel assemblies, and other specified actions. This proposed AD would also require an inspection of the crank assemblies for the inboard and outboard geared tabs of the elevator to determine if the crank assemblies are made of aluminum or steel, replacing any assembly made of aluminum with an assembly made of steel, and other specified actions. This proposed AD is prompted by an accident involving a DC-8 airplane. The probable cause of the accident was a loss of pitch control resulting from the disconnection of the pushrod for the right elevator control tab. The pushrod dropped down and jammed in front of the control tab crank, causing a large deflection of the control tab. We are proposing this AD to minimize the possibility of a control tab offset. A control tab offset could cause elevator deflection, an elevator airplane-nose-up condition, and reduced controllability of the airplane. This proposed AD is also prompted by a report that the elevator on a McDonnell Douglas Model DC-8 airplane did not respond to command inputs from the flightcrew. We are also proposing this AD to minimize the possibility of crank assembly failure when the assembly is exposed to abnormal load conditions. Failure of a crank assembly could result in a jammed elevator and consequent reduced controllability of the airplane.

DATES: We must receive comments on this proposed AD by December 20, 2004.

ADDRESSES: Use one of the following addresses to submit comments on this proposed AD.

• DOT Docket Web Site: Go to http://dms.dot.gov and follow the instructions for sending your comments electronically.

• Government-Wide Rulemaking Web Site: Go to http://www.regulations.gov and follow the instructions for sending your comments electronically.

• Mail: Docket Management Facility, U.S. Department of Transportation, 400 Seventh Street SW., Nassif Building, room PL-401, Washington, DC 20590.

• By Fax: (202) 493-2251.

• Hand Delivery: Room PL-401 on the plaza level of the Nassif Building, 400 Seventh Street SW., Washington, DC, between 9 a.m. and 5 p.m., Monday through Friday, except Federal holidays.

For service information identified in this proposed AD, contact Boeing Commercial Airplanes, Long Beach Division, 3855 Lakewood Boulevard, Long Beach, California 90846, Attention: Data and Service Management, Dept. C1-L5A (D800-0024).

You can examine the contents of this AD docket on the Internet at http://dms.dot.gov, or at the Docket Management Facility, U.S. Department of Transportation, 400 Seventh Street SW., room PL-401, on the plaza level of the Nassif Building, Washington, DC. This docket number is FAA-2004-19541; the directorate identifier for this docket is 2004-NM-129-AD.

FOR FURTHER INFORMATION CONTACT: Technical Information: Maureen Moreland, Aerospace Engineer, Airframe Branch, ANM-120L, FAA, Los Angeles Aircraft Certification Office, 3960 Paramount Boulevard, Lakewood, California 90712-4137; telephone (562) 627-5238; fax (562) 627-5210.

Plain Language Information: Marcia Walters, marcia.walters@faa.gov.

SUPPLEMENTARY INFORMATION:

Docket Management System (DMS)

The FAA has implemented new procedures for maintaining AD dockets electronically. As of May 17, 2004, new AD actions are posted on DMS and assigned a docket number. We track each action and assign a corresponding directorate identifier. The DMS AD docket number is in the form “Docket No. FAA-2004-99999.” The Transport Airplane Directorate identifier is in the form “Directorate Identifier 2004-NM-999-AD.” Each DMS AD docket also lists the directorate identifier (“Old Docket Number”) as a cross-reference for searching purposes.

Comments Invited

We invite you to submit any relevant written data, views, or arguments regarding this proposed AD. Send your comments to an address listed under ADDRESSES. Include “Docket No. FAA-2004-19541; Directorate Identifier 2004-NM-129-AD” in the subject line of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You can review DOT's complete Privacy Act Statement in the Federal Register published on April 11, 2000 (65 FR 19477-78), or you can visit http://dms.dot.gov.

We are reviewing the writing style we currently use in regulatory documents. We are interested in your comments on whether the style of this document is clear, and your suggestions to improve the clarity of our communications that affect you. You can get more information about plain language at http://www.faa.gov/language and http://www.plainlanguage.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

On February 16, 2000, a McDonnell Douglas Model DC-8-71F was involved in an accident shortly after takeoff, while attempting to return to Sacramento Mather Airport, Rancho Cordova, California, for an emergency landing. The National Transportation Safety Board determined that the probable cause of the accident was a loss of pitch control resulting from the disconnection of the right elevator control tab. The disconnection was caused by the failure to properly secure and inspect the attachment bolt. The disconnected control tab pushrod dropped down and jammed in front of the control tab crank, resulting in a large deflection of the control tab. A control tab offset could cause elevator deflection, an elevator airplane-nose-up condition, and reduced controllability of the airplane.

We have also received a report that the elevator on a McDonnell Douglas Model DC-8 airplane did not respond to command inputs from the flightcrew. The flightcrew had to perform a rejected take-off. Investigation revealed that, prior to departure, the left elevator was shifted to an abnormal position by engine blast from another airplane. A preliminary inspection of the affected airplane revealed a broken geared-tab mechanism on the inboard aluminum crank assembly. The inspection also revealed a broken drive mechanism on the outboard aluminum crank assembly. Broken crank assemblies, if not corrected, could result in a jammed elevator and consequent reduced controllability of the airplane.

Relevant Service Information

We have reviewed Boeing Alert Service Bulletin DC8-27A281, dated June 2, 2004. The service bulletin describes procedures for visually inspecting the pushrod assemblies for the left and right elevator control tabs to determine whether the pushrod assemblies are made of aluminum or steel, or using a magnet to make this determination. The service bulletin also describes procedures for replacing any assembly made of aluminum with an assembly made of steel or modifying existing steel assemblies, and other specified actions. Depending on the inspection results, the airplanes are divided into two groups, Condition 1 and Condition 2. Condition 1 airplanes have aluminum pushrod assemblies installed, and Condition 2 airplanes have steel pushrod assemblies installed. Depending on whether the airplane is Condition 1 or Condition 2, the other specified actions include:

• Installing new steel pushrod assemblies, or modifying existing steel pushrod assemblies by installing new aft end assemblies, as applicable.

• Identifying modified pushrod assemblies.

• Performing balance checks on the elevators.

• Calculating the weight and balance of the airplane with the new steel assemblies installed to determine if the values for the elevator nose heavy over balance limits are within the specified limits.

• Performing an elevator and tab inspection/check on the left and right sides of the airplane.

We have also reviewed Boeing Alert Service Bulletin DC8-27A280, dated June 2, 2004. The service bulletin describes procedures for a general visual inspection of the inboard and outboard geared tab crank assemblies on the left and right elevators to determine whether the crank assemblies are made of aluminum or steel, or using a magnet to make that determination. The service bulletin also describes procedures for replacing any assembly made of aluminum with an assembly made of steel, and other specified actions. The other specified actions include removing aluminum crank assemblies and installing steel crank assemblies. Depending on the inspection results, the airplanes are divided into three groups, Condition 1 airplanes, Condition 2 airplanes, and Condition 3 airplanes. Condition 1 airplanes have steel crank assemblies installed. Condition 2 airplanes have aluminum crank assemblies installed and replacement of the assemblies with steel crank assemblies will exceed the “nose heavy over balance” limits. Condition 3 airplanes have aluminum crank assemblies installed and replacement of the assemblies with steel crank assemblies will not exceed the nose heavy over balance limits. Depending on whether the airplane is Condition 1, Condition 2, or Condition 3, the other specified actions include:

• Calculating the weight and balance of the airplane to determine if the values are within the specified limits.

• Performing a balance check of the affected elevator.

• Performing an elevator and tab inspection/check on the left and right sides of the airplane.

Accomplishing the actions specified in the service information is intended to adequately address the unsafe condition.

FAA's Determination and Requirements of the Proposed AD

We have evaluated all pertinent information and identified an unsafe condition that is likely to exist or develop on other airplanes of this same type design. Therefore, we are proposing this AD, which would require an inspection to determine if the pushrod assemblies for the left and right elevator control tabs are made of aluminum or steel, replacing any assembly made of aluminum with an assembly made of steel, and other specified actions. This proposed AD would also require an inspection to determine if the crank assemblies for the inboard and outboard elevator geared tabs are made of aluminum or steel, replacing any assembly made of aluminum with an assembly made of steel, and other specified actions. The proposed AD would require you to use the service information described previously to perform these actions.

Clarification of Applicability

The Summary section of the service bulletins states the effectivity as all DC-8 airplanes. However, the detailed effectivity in paragraph 1.A.1 of the service bulletins does not include DC-8-11, -12, -21, -31, and -32 airplanes. Those models are listed on the type certificate data sheet for the DC-8. We have determined that the effectivity of the service bulletins did not list those model numbers because those airplanes are permanently removed from service. The applicability of this proposed AD will be all DC-8 airplanes.

Clarification of Inspection Terminology

Boeing Alert Service Bulletin DC8-27A280 specifies to do a general visual inspection to determine the part number of the inboard and outboard geared tab crank assemblies. Boeing Alert Service Bulletin DC8-27A281 specifies to do a visual inspection to determine the part number of the pushrod assemblies. Each service bulletin includes a table that lists the applicable part numbers and whether the part is made of aluminum or steel. Both service bulletins also note that if a part number is difficult to read, a magnet may be used to determine if the part is made of aluminum or steel. This proposed AD would require an inspection of the crank and pushrod assemblies to determine if a part is made of aluminum or steel, but would not require a general visual inspection or a visual inspection.

Costs of Compliance

There are about 227 airplanes of the affected design in the worldwide fleet. The following table provides the estimated costs for U.S. operators to comply with this proposed AD.

Estimated Costs
Action | Work hours | Average labor rate per hour | Parts | Cost per airplane | Number of U.S.-registered airplanes | Fleet cost
Inspection, crank assemblies | 1 | $65 | None | $65 | 170 | $11,050
Inspection, pushrod assemblies | 1 | 65 | None | 65 | 170 | 11,050

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

McDonnell Douglas: Docket No. FAA-2004-19541; Directorate Identifier 2004-NM-129-AD.

Comments Due Date

(a) The Federal Aviation Administration (FAA) must receive comments on this AD action by December 20, 2004.

Affected ADs

(b) None.

Applicability: (c) This AD applies to all McDonnell Douglas Model DC-8 airplanes, certificated in any category.

Unsafe Condition

(d) This AD was prompted by an accident involving a DC-8 airplane. The probable cause of the accident was a loss of pitch control resulting from the disconnection of the pushrod for the right elevator control tab. The pushrod dropped down and jammed in front of the control tab crank, causing a large deflection of the control tab. We are issuing this AD to minimize the possibility of a control tab offset. A control tab offset could cause elevator deflection, an elevator airplane-nose-up condition, and reduced controllability of the airplane. This AD was also prompted by a report that the elevator on a McDonnell Douglas Model DC-8 airplane did not respond to command inputs from the flightcrew. We are also issuing this AD to minimize the possibility of a crank assembly failure when the assembly is exposed to abnormal load conditions. Failure of a crank assembly could result in a jammed elevator and consequent reduced controllability of the airplane.

Compliance: (e) You are responsible for having the actions required by this AD performed within the compliance times specified, unless the actions have already been done.

Inspection of Pushrod Assemblies and Other Specified Actions

(f) Within 24 months after the effective date of this AD: Do an inspection of the pushrod assemblies located in the left and right elevator control tabs to determine whether the assemblies are made of aluminum or steel. Replace any pushrod assembly made of aluminum with a new, improved pushrod assembly made of steel, or modify any existing steel pushrod assembly by replacing the aft end assembly with a new, improved aft end assembly, as applicable. Do the inspection, replacement or modification, and all other applicable specified actions by accomplishing all of the actions in the Accomplishment Instructions of Boeing Alert Service Bulletin DC8-27A281, dated June 2, 2004. The replacement or modification and other applicable specified actions must be done before further flight.

Inspection of Geared Tab Crank Assemblies and Other Specified Actions

(g) Within 24 months after the effective date of this AD: Do an inspection of the inboard and outboard geared tab crank assemblies, located in the left and right elevators, to determine whether the assemblies are made of aluminum or steel. Replace any crank assembly made of aluminum with a new, improved crank assembly made of steel. Do the inspection, replacement, and other applicable specified actions by accomplishing all of the actions in the Accomplishment Instructions of Boeing Alert Service Bulletin DC8-27A280, dated June 2, 2004. The replacement and other applicable specified actions must be done before further flight.

Alternative Methods of Compliance (AMOCs)

(h) The Manager, Los Angeles Aircraft Certification Office, FAA, has the authority to approve AMOCs for this AD, if requested in accordance with the procedures found in 14 CFR 39.19.

Issued in Renton, Washington, on October 26, 2004.
Ali Bahrami,
Manager, Transport Airplane Directorate, Aircraft Certification Service.

[FR Doc. 04-24729 Filed 11-4-04; 8:45 am]

BILLING CODE 4910-13-P